DEPARTMENT OF JUSTICE

Antitrust Division

Notice Pursuant to the National Cooperative Research and Production Act of 1993—Engine Manufactures Association

Notice is hereby given that, on September 14, 2004, pursuant to Section 6(a) of the National Cooperative Research and Production Act of 1993, 15 U.S.C. 4301 et seq. (“the Act”), the Engine Manufacturers Association (“EMA”) has filed notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Engine Manufacturers Association, Chicago, IL. The nature and scope of EMA's standards development activities are: To develop, establish and coordinate voluntary consensus standards applicable to engine fluids, which include lubricants, fuels and coolants. As a part of its standards setting activities, EMA develops performance criteria, consensus positions, recommended guidelines and performance specifications in order to adopt consensus positions on engine fluid issues of concern to the industry as a whole.

Dorothy B. Fountain,
Deputy Director of Operations, Antitrust Division.

[FR Doc. 04-22896 Filed 10-12-04; 8:45 am]

BILLING CODE 4410-11-M